DEPARTMENT OF COMMERCE

National Oceanic and Atmospheric Administration

[RTID 0648-XA552]

Endangered and Threatened Species; Take of Anadromous Fish

AGENCY: National Marine Fisheries Service (NMFS), National Oceanic and Atmospheric Administration (NOAA), Commerce.

ACTION: Notice of availability.

SUMMARY: Notice is hereby given that the Final Environmental Assessment (EA) and Finding of No Significant Impact (FONSI) associated with the Bureau of Reclamation (Reclamation) and the California Department of Fish and Wildlife (CDFW)'s Trinity River Hatchery and Genetic Management Plan (HGMP) for Southern Oregon Northern California Coast coho salmon hatchery production is now available to the public. The Trinity River Hatchery is located in Trinity County, California.

ADDRESSES: The Final Environmental Assessment, Finding of No Significant Impact, and supporting documents are available by visiting the NMFS website (www.fisheries.noaa.gov/west-coast/laws-and-policies/west-coast-region-national-environmental-policy-act-documents) or by contacting Seth Naman at Seth.Naman@noaa.gov

FOR FURTHER INFORMATION CONTACT: Seth Naman at: (707) 825-5180, or via email: Seth.Naman@noaa.gov.

SUPPLEMENTARY INFORMATION:

ESA-Listed Species Covered in This Notice

Southern Oregon/Northern California Coast (SONCC) Coho Salmon (Oncorhynchus kisutch).

Background

Reclamation and CDFW submitted the Trinity River Coho Salmon HGMP to NMFS for determination on whether the HGMP meets Limit 5 criteria of the 4(d) Rule. Reclamation and CDFW's HGMP for Trinity River coho salmon provides the framework through which Reclamation and CDFW can manage hatchery operations, monitoring, and evaluation activities, while meeting requirements specified under the ESA. The hatchery program will propagate coho salmon derived from the Upper Trinity River population in the Trinity River, incorporating natural-origin coho salmon into the hatchery broodstock to help reduce the genetic divergence between hatchery-origin coho salmon and their natural counterparts. Measures will be applied in the hatchery program to reduce the risk of incidental adverse genetic, ecological, and demographic effects on natural-origin steelhead and salmon populations.

NMFS published notification of the HGMP and draft EA's availability for public review and comment on November 7, 2018 for 30-days (83 FR 55697). NMFS received two comment letters. All comments were considered, and where appropriate, changes were made to the final EA.

Authority

Under section 4 of the ESA, the Secretary of Commerce is required to adopt such regulations as he deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422, July 10, 2000, as updated in 70 FR 37160, June 28, 2005).

Dated: October 8, 2020.
Angela Somma,
Chief, Endangered Species Division, Office of Protected Resources, National Marine Fisheries Service.

[FR Doc. 2020-22746 Filed 10-14-20; 8:45 am]

BILLING CODE 3510-22-P